DEPARTMENT OF LABOR

Employment and Training Administration

Notice of a Change in Status of an Extended Benefit (EB) Period for Maine and Michigan

AGENCY: Employment and Training Administration, Labor.

ACTION: Notice.

SUMMARY: This notice announces a change in status of payable periods under the EB program for Maine and Michigan.

The following changes have occurred since the publication of the last notice regarding these States' EB status:

• Based on data released by the Bureau of Labor Statistics on January 24, 2012, Maine and Michigan do not meet one of the necessary criteria to remain on in the EB program: Having a TUR trigger rate at least ten percent greater than the rate for a comparable period in any of the three prior years. This triggered Maine and Michigan “off” the EB program with the week ending January 28, 2012. The end of the payable period in both states in the EB program will be February 18, 2012.

The trigger notice covering state eligibility for the EB program can be found at: http://ows.doleta.gov/unemploy/claims_arch.asp.

Information for Claimants

The duration of benefits payable in the EB program, and the terms and conditions on which they are payable, are governed by the Federal-State Extended Unemployment Compensation Act of 1970, as amended, and the operating instructions issued to the states by the U.S. Department of Labor. In the case of a state concluding an EB period, the State Workforce Agency will furnish a written notice of potential entitlement to each individual who has exhausted all rights to regular benefits and is potentially eligible for EB (20 CFR 615.13(c)(1)).

Persons who believe they may be entitled to EB, or who wish to inquire about their rights under the program, should contact their State Workforce Agency.

FOR FURTHER INFORMATION CONTACT: Scott Gibbons, U.S. Department of Labor, Employment and Training Administration, Office of Unemployment Insurance, 200 Constitution Avenue NW., Frances Perkins Bldg., Room S-4524, Washington, DC 20210, telephone number (202) 693-3008 (this is not a toll-free number) or by email: gibbons.scott@dol.gov.

Signed in Washington, DC this 16th day of February, 2012.
Jane Oates,
Assistant Secretary, Employment and Training Administration.

[FR Doc. 2012-4295 Filed 2-23-12; 8:45 am]

BILLING CODE 4510-FW-P